DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before December 10, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on November 4, 2021.
Donald P. Burger,
Chief, General Approvals and Permits Branch.

Special Permits Data
Application No. | Applicant | Regulation(s) affected | Nature of the special permits thereof
21293-N | Harnyss, LLC | 173.311 | To authorize the manufacture, mark, sale and use of a specially designed storage device consisting of a non-DOT specification cylinder similar to a DOT 3AL cylinder for use in transporting hydrogen absorbed in metal hydride, Division 2.1. (modes 1, 4)
21294-N | Trane U.S. Inc | 173.306(e)(1)(i), 173.306(e)(1)(ii) | To authorize the transportation in commerce of large refrigerating machines where each pressure vessel containing A2L refrigerant gases in quantities exceeding 50 pounds and an aggregate of more than 100 pounds. (modes 1, 2, 3)
21296-N | Lockheed Martin Corporation | 173.185(e)(1) | To authorize the transportation in commerce of low production lithium batteries in alternative packaging via motor vehicle. (mode 1)
21297-N | Luxfer Canada Limited | 178.75(d)(3), 180.205(g)(1) | To authorize the manufacture, marking, sale and use of UN/ISO composite cylinders per CFR 178.71, and specification ISO 11119-2 for use in MEGCs in accordance with CFR 178.75. (modes 1, 2, 3, 4)
21298-N | Linde Gas & Equipment Inc | 173.301(f), 173.301(g)(1)(ii), 173.304a(c) | To authorize the transportation in commerce of UN1070, nitrous oxide, in cylinders interconnected by a manifold. (modes 1, 2, 3)
21299-N | Orbital Sciences LLC | 172.101(j) | To authorize the transportation in commerce of lithium batteries exceeding 35 kg by cargo-only aircraft. (mode 4)
21300-N | Distributor Operations, Inc | 172.200, 172.300, 172.400, 173.159(e), 173.185(b)(1) | To authorize the transportation in commerce of wet acid batteries and lithium batteries on the same vehicle, without being subject to the requirements of the Hazardous Materials Regulations. (mode 1)
21301-N | DGM Italia SRL | 172.101(j) | To authorize the transportation in commerce of lithium ion batteries exceeding 35 kg by cargo-only aircraft. (mode 4)

[FR Doc. 2021-24563 Filed 11-9-21; 8:45 am]

BILLING CODE P